DEPARTMENT OF TRANSPORTATION

Federal Aviation Administration

14 CFR Part 39

[Docket No. FAA-2023-0669; Project Identifier MCAI-2022-01238-T; Amendment 39-22459; AD 2023-12-01]

RIN 2120-AA64

Airworthiness Directives; Airbus SAS Airplanes

AGENCY: Federal Aviation Administration (FAA), DOT.

ACTION: Final rule.

SUMMARY: The FAA is superseding Airworthiness Directive (AD) 2006-10-13, which applied to all Airbus SAS Model A330-223, -321, -322, and -323 airplanes. AD 2006-10-13 required repetitive inspections of the firewall of the lower aft pylon fairing (LAPF), and corrective actions if necessary. AD 2006-10-13 also provided an optional terminating action for the repetitive inspections. This AD was prompted by the design of an updated LAPF, the installation of which constitutes terminating action for the repetitive inspection required by AD 2006-10-13. This AD continues to require the actions specified in AD 2006-10-13, provides new optional terminating actions, and changes the applicability to exclude certain airplanes; as specified in a European Union Aviation Safety Agency (EASA) AD, which is incorporated by reference. The FAA is issuing this AD to address the unsafe condition on these products.

DATES: This AD is effective August 7, 2023.

The Director of the Federal Register approved the incorporation by reference of a certain publication listed in this AD as of August 7, 2023.

ADDRESSES:

AD Docket: You may examine the AD docket at regulations.gov under Docket No. FAA-2023-0669; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For the material incorporated by reference in this AD, contact EASA, Konrad-Adenauer-Ufer 3, 50668 Cologne, Germany; telephone +49 221 8999 000; email ADs@easa.europa.eu; website easa.europa.eu. You may find this material on the EASA website at ad.easa.europa.eu.

• You may view this material at the FAA, Airworthiness Products Section, Operational Safety Branch, 2200 South 216th St., Des Moines, WA. For information on the availability of this material at the FAA, call 206-231-3195. It is also available in the AD docket at regulations.gov under Docket No. FAA-2023-0669.

FOR FURTHER INFORMATION CONTACT: Tim Dowling, Aviation Safety Engineer, FAA, 1600 Stewart Avenue, Suite 410, Westbury, NY 11590; telephone 206-231-3667; email timothy.p.dowling@faa.gov.

SUPPLEMENTARY INFORMATION:

Background

The FAA issued a notice of proposed rulemaking (NPRM) to amend 14 CFR part 39 to supersede AD 2006-10-13, Amendment 39-14597 (71 FR 28250, May 16, 2006) (AD 2006-10-13). AD 2006-10-13 applied to all Airbus SAS Model A330-223, -321, -322, and -323 airplanes. AD 2006-10-13 required repetitive inspections of the firewall of the LAPF, and corrective actions if necessary. AD 2006-10-13 also provided an optional terminating action for the repetitive inspections. The FAA issued AD 2006-10-13 to address cracking of the LAPF firewall, which could reduce the effectiveness of the firewall and result in an uncontrolled engine fire.

The NPRM published in the Federal Register on April 11, 2023 (88 FR 21540). The NPRM was prompted by AD 2022-0190, dated September 14, 2022, issued by EASA, which is the Technical Agent for the Member States of the European Union (EASA AD 2022-0190) (also referred to as the MCAI). The MCAI states that since Direction Générale de l'Aviation Civile (DGAC) France AD F-2004-028 R2 was issued, Airbus designed an updated LAPF, the installation of which also constitutes terminating action for the repetitive inspections required by DGAC France AD F-2004-028 R2. EASA AD 2022-0190 retains the requirements of DGAC France AD F-2004-028 R2, and includes reference to an additional optional terminating action modification. EASA AD 2022-0190 also excludes airplanes on which the optional terminating action was embodied in production from its applicability.

You may examine the MCAI in the AD docket at regulations.gov under Docket No. FAA-2023-0669.

In the NPRM, the FAA proposed to continue to require the actions specified in AD 2006-10-13, provide new optional terminating actions, and change the applicability to exclude certain airplanes, as specified in EASA AD 2022-0190. The FAA is issuing this AD to address cracking of the LAPF firewall, which could reduce the effectiveness of the firewall and result in an uncontrolled engine fire.

Discussion of Final Airworthiness Directive

Comments

The FAA received comments from The Air Line Pilots Association, International (ALPA) who supported the NPRM without change.

Conclusion

This product has been approved by the aviation authority of another country and is approved for operation in the United States. Pursuant to the FAA's bilateral agreement with this State of Design Authority, it has notified the FAA of the unsafe condition described in the MCAI referenced above. The FAA reviewed the relevant data, considered the comment received, and determined that air safety requires adopting this AD as proposed. Accordingly, the FAA is issuing this AD to address the unsafe condition on this product. Except for minor editorial changes, this AD is adopted as proposed in the NPRM. None of the changes will increase the economic burden on any operator.

Related Service Information Under 1 CFR Part 51

EASA AD 2022-0190 specifies procedures for repetitively inspecting each LAPF firewall for cracks, and performing corrective actions, including stop-drilling the crack and applying sealants, and repairing the LAPF firewall. EASA AD 2022-0190 also specifies terminating actions for the repetitive inspections, including modifying and reidentifying the LAPF or replacing the LAPF with an LAPF having part number 72A100-713. This material is reasonably available because the interested parties have access to it through their normal course of business or by the means identified in the ADDRESSES section.

Costs of Compliance

The FAA estimates that this AD affects 41 airplanes of U.S. registry. The FAA estimates the following costs to comply with this AD:

Estimated Costs for Required Actions
Action | Labor cost | Parts cost | Cost per product | Cost on U.S. operators
Retained actions from AD 2006-10-13 | 7 work-hours × $85 per hour = $595 | $0 | $595 | $24,395

Estimated Costs for Optional Actions
Labor cost | Parts cost | Cost per product
14 work-hours × $85 per hour = $1,190 | $120,000 | $121,190

The FAA estimates the following costs to do any necessary on-condition actions that would be required based on the results of any required or optional actions. The FAA has no way of determining the number of aircraft that might need these on-condition actions:

Estimated Costs of On-Condition Actions
Labor cost | Parts cost | Cost per product
7 work-hours × $85 per hour = $595 | $120,000 | $120,595

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2006-10-13, Amendment 39-14597 (71 FR 28250, May 16, 2006); and

b. Adding the following new AD:

2023-12-01 Airbus SAS: Amendment 39-22459; Docket No. FAA-2023-0669; Project Identifier MCAI-2022-01238-T.

(a) Effective Date

This airworthiness directive (AD) is effective August 7, 2023.

(b) Affected ADs

This AD replaces AD 2006-10-13, Amendment 39-14597 (71 FR 28250, May 16, 2006) (AD 2006-10-13).

(c) Applicability

This AD applies to Airbus SAS Model A330-223, A330-321, A330-322, and A330-323 airplanes, certificated in any category, as identified in European Union Aviation Safety Agency (EASA) AD 2022-0190, dated September 14, 2022 (EASA AD 2022-0190).

(d) Subject

Air Transport Association (ATA) of America Code 54, Nacelles/pylons.

(e) Unsafe Condition

This AD was prompted by reports of cracking of the lower aft pylon fairing (LAPF) firewall, and by the development of an optional terminating replacement. The FAA is issuing this AD to address this cracking, which could reduce the effectiveness of the firewall and result in an uncontrolled engine fire.

(f) Compliance

Comply with this AD within the compliance times specified, unless already done.

(g) Requirements

Except as specified in paragraphs (h) and (i) of this AD: Comply with all required actions and compliance times specified in, and in accordance with, EASA AD 2022-0190.

(h) Exceptions to EASA AD 2022-0190

(1) Where EASA AD 2022-0190 refers to “28 February 2004 [the effective date of DGAC France AD F-2004-028 at original issue],” this AD requires using June 20, 2006 (the effective date of AD 2006-10-13).

(2) For any airplane on which a crack has been found and a stop-drill of the crack and sealant application has not been done as specified in paragraph (4.1) of EASA AD 2022-0190 as of the effective date of this AD: Within 30 days after the effective date of this AD, accomplish the actions specified in paragraph (4.1) of EASA AD 2022-0190.

(3) Where paragraph (2) of EASA AD 2022-0190 specifies a crack length, replace the text “up to 30.48 mm” with “less than or equal to 30.48 mm (1.2 inches).”

(4) This AD does not adopt the “Remarks” section of EASA AD 2022-0190.

(i) No Reporting Requirement

Although the service information referenced in EASA AD 2022-0190 specifies to submit certain information to the manufacturer, this AD does not include that requirement.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (k) of this AD. Information may be emailed to: 9-AVS-AIR-730-AMOC@faa.gov.

(i) Before using any approved AMOC, notify your appropriate principal inspector, or lacking a principal inspector, the manager of the responsible Flight Standards Office. (ii) AMOCs approved previously for AD 2006-10-13 in FAA Letters ANM-116-17-235 and AIR-676-20-117 are approved as AMOCs for the corresponding provisions of EASA AD 2022-0190 that are required by paragraph (g) of this AD.

(2) Contacting the Manufacturer: For any requirement in this AD to obtain instructions from a manufacturer, the instructions must be accomplished using a method approved by the Manager, International Validation Branch, FAA; or EASA; or Airbus SAS's EASA Design Organization Approval (DOA). If approved by the DOA, the approval must include the DOA-authorized signature.

(3) Required for Compliance (RC): Except as required by paragraph (j)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Additional Information

For more information about this AD, contact Tim Dowling, Aviation Safety Engineer, FAA, 1600 Stewart Avenue, Suite 410, Westbury, NY 11590; telephone 206-231-3667; email timothy.p.dowling@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2022-0190, dated September 14, 2022.

(ii) [Reserved]

(3) For EASA AD 2022-0190, contact EASA, Konrad-Adenauer-Ufer 3, 50668 Cologne, Germany; telephone +49 221 8999 000; email ADs@easa.europa.eu; website easa.europa.eu. You may find this EASA AD on the EASA website at ad.easa.europa.eu.

(4) You may view this material at the FAA, Airworthiness Products Section, Operational Safety Branch, 2200 South 216th St., Des Moines, WA. For information on the availability of this material at the FAA, call 206-231-3195.

(5) You may view this material that is incorporated by reference at the National Archives and Records Administration (NARA). For information on the availability of this material at NARA, email fr.inspection@nara.gov, or go to: www.archives.gov/federal-register/cfr/ibr-locations.html.

Issued on June 7, 2023.
Ross Landes,
Deputy Director for Regulatory Operations, Compliance & Airworthiness Division, Aircraft Certification Service.

[FR Doc. 2023-14002 Filed 6-30-23; 8:45 am]

BILLING CODE 4910-13-P